DEPARTMENT OF COMMERCE

National Oceanic and Atmospheric Administration

[I.D. 081302A]

North Pacific Fishery Management Council; Public Meeting

AGENCY: National Marine Fisheries Service (NMFS), National Oceanic and Atmospheric Administration (NOAA), Commerce.

ACTION: Notice of public meeting.

SUMMARY: The North Pacific Fishery Management Council's (Council) Vessel Monitoring Systems (VMS) Committee will meet.

DATES: The meeting will be held on August 30, 2002, from 10:30 a.m. until 5 p.m.

ADDRESSES: The meeting will be held at the Federal Building, 709 W. 9th Avenue, Room 445, Juneau, AK.

Council address: North Pacific Fishery Management Council, 605 W. 4th Ave., Suite 306, Anchorage, AK 99501-2252.

FOR FURTHER INFORMATION CONTACT: Council Staff: 907-271-2809.

SUPPLEMENTARY INFORMATION: On Friday, August 30th, 2002 at 10:30 a.m., the Committee will meet to review the current VMS system and potential new systems and discuss current and future uses of technology for monitoring fisheries and enhancing vessel safety in a cost-effective manner.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, 907-271-2809, at least 5 working days prior to the meeting date.

Dated: August 13, 2002.
Richard W. Surdi,
Acting Director, Office of Sustainable Fisheries, National Marine Fisheries Service.

[FR Doc. 02-20901 Filed 8-15-02; 8:45 am]

BILLING CODE 3510-22-S